CHEMICAL SAFETY AND HAZARD INVESTIGATION BOARD

Senior Executive Service Performance Review Board—Appointment of Members

AGENCY: U.S. Chemical Safety and Hazard Investigation Board (CSB).

ACTION: Notice of members of Senior Executive Service Performance Review Board.

SUMMARY: This notice announces the membership of the Chemical Safety and Hazard Investigation Review Board (CSB) Senior Executive Service (SES) Performance Review Board (PRB).

DATES: These appointments are effective on the date of publication of this notice to March 2024.

FOR FURTHER INFORMATION CONTACT: Selena Simmons-Ferguson, HR Director, CSB, 1750 Pennsylvania Ave. NW, Suite 910, (202) 510-3054.

SUPPLEMENTARY INFORMATION: 5 U.S.C. 4314(c)(1) requires each agency to establish, in accordance with regulations with regulations prescribed by the Office of Personnel Management, a performance review board (PRB). The PRB reviews the initial performance ratings of members of the Senior Executive Service (SES) and makes recommendations for final annual performance ratings for senior executives. In addition, the PRB will review and recommend executive performance bonuses and pay increases.

Publication of the PRB membership is required by 5 U.S.C. 4314(c)(4). Because the CSB is a small independent Federal agency, in addition to members from the CSB, the agency is drawing an additional SES member for its PRB from another Federal agency. The members of the CSB's PRB have committed to serving a two-year term.

The Board shall consist of at least three members, and more than half of the members shall consist of career appointees. The following persons comprise a standing roster to serve as members of the CSB Senior Executive Service PRB: Bruce Walker, Senior Advisor, CSB; David LaCerte, Senior Advisor/Executive Counsel, CSB; Steven Klejst, Executive Director—Investigations and Recommendations, CSB; Susan Kantrowitz, Managing Director, CSB; and Jerold Gidner, Director, Bureau of Trust Funds Administration, U.S. Department of Interior.

Dated: March 16, 2022.
Tamara Qureshi,
Assistant General Counsel, Chemical Safety and Hazard Investigation Board.

[FR Doc. 2022-05868 Filed 3-18-22; 8:45 am]

BILLING CODE P